ENVIRONMENTAL PROTECTION AGENCY

[EPA-HQ-OPP-2008-0651; FRL-8940-7]

Agency Information Collection Activities; Submission to OMB for Review and Approval; Comment Request; Notice of Pesticide Registration by States To Meet a Special Local Need (SLN) Under FIFRA Section 24(c); EPA ICR No. 0595.10, OMB Control No. 2070-0055

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 4, 2009.

ADDRESSES: Submit your comments, referencing Docket ID No. EPA-HQ-OPP-2008-0651, to (1) EPA online using http://www.regulations.gov (our preferred method), by mail—Office of Pesticide Programs (OPP), Regulatory Public Docket (7502P), Environmental Protection Agency, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nathanael R. Martin, Field and External Affairs Division, Office of Pesticide Programs, 7506P, Environmental Protection Agency, 1200 Pennsylvania Ave., NW., Washington, DC 20460; telephone number: 703-305-6475; fax number: 703-305-5884; e-mail address: martin.nathanael@epa.gov.

SUPPLEMENTARY INFORMATION: EPA has submitted the following ICR to OMB for review and approval according to the procedures prescribed in 5 CFR 1320.12. On December 10, 2008 (73 FR 75094), EPA sought comments on this ICR pursuant to 5 CFR 1320.8(d). EPA received no comments. Any additional comments on this ICR should be submitted to EPA and OMB within 30 days of this notice.

EPA has established a public docket for this ICR under Docket ID No. EPA-HQ-OPP-2008-0651, which is available for online viewing at http://www.regulations.gov, or in person viewing at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805. Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Notice of Pesticide Registration by States to Meet a Special Local Need (SLN) under FIFRA section 24(c).

ICR Numbers: EPA ICR No. 0595.10, OMB Control No. 2070-0055.

ICR Status: This ICR is scheduled to expire on August 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This data collection program is designed to provide EPA with the necessary data to review approval of State-issued pesticide registrations. The Federal Insecticide, Fungicide, and Rodenticide Act (FIFRA), section 24(c) authorizes the States to register additional uses of federally registered pesticides for distribution and use within the State to meet a SLN. A State-issued registration under FIFRA section 24(c) is deemed a Federal registration for the purposes of the pesticide's use within the State's boundaries. A State must notify EPA, in writing, of any action it takes, i.e., when it issues, amends, or revokes a State registration. The Agency has 90 days to disapprove the registration. In such cases, the State is responsible for notifying the affected registrant. Pursuant to subpart D of 40 CFR part 162, responses to this collection of information are mandatory.

Burden Statement: The annual public reporting and recordkeeping burden for this collection of information is estimated to average 52 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and territorial governments.

Estimated Number of Respondents: 60.

Frequency of Response: On occasion.

Estimated Total Annual Hour Burden: 36,036.

Estimated Total Annual Cost: $2,401,245.

Changes in the Estimates: There is an increase of 12,636 hours in the total estimated burden currently identified in the OMB Inventory of Approved ICR Burdens. This increase reflects the increase in average annual number of applications from 2005-2007. This change is an adjustment.

Dated: July 30, 2009.
John Moses,
Director, Collection Strategies Division.

[FR Doc. E9-18695 Filed 8-4-09; 8:45 am]

BILLING CODE 6560-50-P